DEPARTMENT OF ENERGY

Agency Information Collection Under Review by the Office of Management and Budget (OMB)

AGENCY: Department of Energy.

ACTION: Submission for OMB review, comment request.

SUMMARY: The Department of Energy (DOE) has submitted an information collection package to the OMB for renewal under the Paperwork Reduction Act of 1995. The package requests a 3-year extension of its affiliated sources information collection, OMB control number 1910-5111. This information collection package covers collection of information necessary to provide the contracting officer with complete information on potential organizational conflicts involved in teaming arrangements. Departmental management uses the information to exercise management oversight regarding the implementation of applicable statutory and regulatory requirements and obligations. The collection of this information is critical to ensure that the Government has sufficient information to judge the degree to which awardees meet the terms of their agreements and ensure that improper organization conflicts are not created.

DATES: Comments regarding the information collection package should be submitted to the OMB Desk Officer at the following address no later than February 24, 2003. If you anticipate that you will be submitting comments, but find it difficult to do so within the period of time allowed by this notice, you should advise the OMB Desk Officer of your intention to do so as soon as possible. The Desk Officer may be telephoned at (202) 395-3084. (Also notify the DOE contact listed in this notice.)

ADDRESSES: Address comments to the DOE Desk Officer, Office of Information and Regulatory Affairs, Office of Management and Budget, New Executive Office Building, Room 10102, 735 17th Street, NW., Washington, DC 20503. Comments should also be addressed to Susan L. Frey, Director, Records Management Division, IM-11/Germantown Bldg., Office of Business and Information Management, Office of the Chief Information Officer, U.S. Department of Energy, 1000 Independence Ave, SW, Washington, DC 20585-1290.

SUPPLEMENTARY INFORMATION: This package contains (1) OMB Control No. 1910-5111 (2) Package Title: Purchasing by DOE Management and Operating Contractors from Contractor Affiliated Sources; (3) Type of Respondents: DOE Management and Operating Contractors; (4) Estimated Number of responses: 20; (5) Estimated Total Burden Hours: 100; (6) Purpose: This information is required by the Department to ensure that programmatic and administrative management requirements and resources are managed efficiently and effectively. The package contains 1 information and/or recordkeeping requirement, that is, the provision found at 48 CFR 952.209-8, Organizational Conflicts of Interest Disclosure—Advisory and Assistance Services.

Statutory Authority: Sec. 3506(c)(2)(A) of the Paperwork Reduction Act of 1995 (Pub. L. 104-13).

Issued in Washington, DC, on January 17, 2003.
Susan L. Frey,
Director, Records Management Division, Office of Business and Information Management, Office of the Chief Information Officer.

[FR Doc. 03-1639 Filed 1-23-03; 8:45 am]

BILLING CODE 6450-01-P